DEPARTMENT OF JUSTICE

Antitrust Division

Notice Pursuant to The National Cooperative Research and Production Act of 1993—Petroleum Environmental Research Forum Project No. 2018-P10, “Facilitating Proactive Sewer Inspections at Petrochemical Sites”

Notice is hereby given that, on May 6, 2022, pursuant to Section 6(a) of the National Cooperative Research and Production Act of 1993, 15 U.S.C. Section 4301 et seq. (“the Act”), Petroleum Environmental Research Forum (“PERF” Project No. 2018-P10, entitled “Facilitating Proactive Sewer Inspections at Petrochemical Sites” (“PERF Project No. 2018-P10”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Technology and Engineering Company, Spring, TX; BP Products North America, Inc., Naperville, IL; Shell Global Solutions (US) Inc., Houston, TX; and TotalEnergies E&P Research & Technology USA, LLC, Houston, TX.

The general area of the PERF Project No. 2018-P10's planned activity are, through cooperative research efforts, to explore cost-effective sewer inspection technologies and develop guidance for refining and petrochemical facilities to assess sewer integrity to help facilities identify technologies that can inspect sewers online, provide early detection of sewer integrity issues, prevent sewer failures, and minimize unplanned maintenance events.

Suzanne Morris,
Deputy Director of Civil Enforcement Operations, Antitrust Division.

[FR Doc. 2023-01404 Filed 1-24-23; 8:45 am]

BILLING CODE 4410-11-P